FEDERAL COMMUNICATIONS COMMISSION

[OMB 3060-1185; FR ID 281745]

Information Collection Requirement Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before April 28, 2025. If you anticipate that you will be submitting comments but find it difficult to do so within the period of time allowed by this notice, you should advise the contact listed below as soon as possible.

ADDRESSES: Direct all PRA comments to Cathy Williams, FCC, via email PRA@fcc.gov and to Cathy.Williams@fcc.gov. Include in the comments the Title as shown in the SUPPLEMENTARY INFORMATION section below.

FOR FURTHER INFORMATION CONTACT: For additional information about the information collection, contact Cathy Williams at (202) 418-2918.

SUPPLEMENTARY INFORMATION:

OMB Control Number: 3060-1185.

Title: Annual Report for Mobility Fund Phase I Support, FCC Form 690 and Record Retention Requirements.

Form Number: FCC Form 690.

Type of Review: Extension of a currently approved collection.

Respondents: Business or other for-profit entities, not-for-profit institutions, and state, local or tribal governments.

Number of Respondents and Responses: 34 respondents and 64 responses.

Time per Response: 1-18 hours.

Frequency of Response: Annual and on occasion reporting requirement; recordkeeping requirement.

Obligation to Respond: Required to obtain or retain benefits. Statutory authority for this information collection 47 U.S.C. 154, 254 and 303(r) of the Communications Act of 1934, as amended.

Estimated Total Annual Burden: 574 hours.

Total Annual Costs: No Cost.

Needs and Uses: A request for extension of this information collection (no change in requirements) will be submitted to the Office of Management and Budget (OMB) after this 60-day comment period in order to obtain the full three year clearance from OMB. In its November 2011 USF/ICC Transformation Order (FCC 11-161), the Commission comprehensively reformed and modernized the high-cost program within the universal service fund and, among other things, established the Mobility Fund. The Commission adopted rules in the USF/ICC Transformation Order for Mobility Fund Phase I (MF-I), which provided up to $300 million in one-time universal service support payments to immediately accelerate deployment of mobile broadband services in unserved areas, including annual reporting and record retention requirements for MF-I support recipients. The Commission also established a separate and complementary one-time Tribal Mobility Fund Phase I (TMF-I) to award up to $50 million in additional universal service funding to Tribal Areas, including Alaska, to accelerate mobile broadband availability in these remote and underserved areas. In its May 2012 Third Order on Reconsideration (FCC 12-52), the Commission revised certain rules adopted in the USF/ICC Transformation Order, including the deadline by which MF-I and TMF-I support recipients must file their annual reports pursuant to 47 CFR 54.1009(a). Recipients of MF-I and TMF-I support are required to file annual reports with the Commission on FCC Form 690 demonstrating the coverage provided with support from the Mobility Fund for five (5) years after qualifying to receive support. Documentation prepared for, or in connection with, the award of MF-I and TMF-I support is to be retained by a recipient of such support for a period of not less than ten (10) years after the recipient receives its final disbursement of support. The Commission uses the information collected under this information collection to ensure that each MF-I and TMF-I support recipient is meeting the obligations associated with receiving such support.

The auctions to award MF-I and TMF-I support were held in 2012 and 2014, respectively. Due to the passage of time since support disbursements to MF-I and TMF-I began to be distributed following the conclusion of these auctions, there are no longer any TMF-I support recipients that are still required to file annual reports on FCC Form 690, and there are only a few MF-I support recipients that are still required to file annual reports.

Federal Communications Commission.
Marlene Dortch,
Secretary.

[FR Doc. 2025-03141 Filed 2-26-25; 8:45 am]

BILLING CODE 6712-01-P